DEPARTMENT OF ENERGY

Federal Energy Regulatory Commission

[Docket Nos. EC06-40-000, et al.]

Xcel Energy Services, Inc. et al.; Electric Rate and Corporate Filings

February 24, 2006.

The following filings have been made with the Commission. The filings are listed in ascending order within each docket classification.

1. Xcel Energy Services, Inc.

[Docket No. EC06-40-000]

Take notice that on February 17, 2006, Xcel Energy Services Inc. on behalf of Southwestern Public Service Company tenders for filing a notice of withdrawal of section 203 Federal Power Act application filed on December 13, 2005.

Comment Date: 5 p.m. Eastern Time on March 10, 2006.

2. Cadillac Renewable Energy LLC, Decker Energy Cadillac, Inc., Seville Energy LLC

[Docket No. EC06-82-000]

Take notice that on February 15, 2006, Cadillac Renewable Energy LLC, Decker Energy Cadillac, Inc. and Seville Energy LLC (Applicants) submitted an application pursuant to section 203 of the Federal Power Act for authorization of disposition of jurisdictional facilities.

Comment Date: 5 p.m. Eastern Time on March 8, 2006.

3. NewCorp Resources Electric Cooperative, Inc.

[Docket No. EC06-83-000]

Take notice that on February 17, 2006, NewCorp Resources Electric Cooperative, Inc. (NewCorp) tendered for filing pursuant to section 203 of the Federal Power Act an application requesting all authorizations and approvals necessary for the indirect disposition of jurisdictional facilities in connection with the proposed acquisition of all of the capital stock of Cap Rock by Cap Rock Holding Corporation.

Comment Date: 5 p.m. Eastern Time on March 10, 2006.

4. Avista Corporation; Avista Energy, Inc.; Spokane Energy, LLC; Avista Turbine Power, Inc.; Rathdrum Power, LLC

[Docket Nos. EC06-85-000; ER99-1435-012; ER96-2408-024; ER98-4336-014; ER99-3320-004]

Take notice that on February 17, 2006, Avista Corporation d/b/a Avista Utilities, Avista Energy, Inc., Spokane Energy, LLC, Avista Turbine Power, Inc., and Rathdrum Power, LLC (collectively Applicants) submitted an Application pursuant to section 203 of the Federal Power Act seeking authorization for the disposition of jurisdictional facilities resulting from a proposed corporate reorganization, and providing notice of a change in status relating to Applicants' market-based rate authorization.

Comment Date: 5 p.m. Eastern Time on March 10, 2006.

5. TransCanada Energy, Ltd.

[Docket No. EG06-38-000]

Take notice that on February 19, 2006, TransCanada Energy, Ltd. filed pursuant to section 366.1 of the Commission's regulations, as recently promulgated in Order No. 665, a notice of self-certification that it is an exempt wholesale generator within the meaning of section 366.1 of the Commission's regulations.

Comment Date: 5 p.m. Eastern Time on March 10, 2006.

6. Pittsfield Generating Company, L.P.

[Docket No. ER06-262-001]

Take notice that on February 16, 2006, Pittsfield Generating Company, L.P. (Applicant) tendered for filing its responses to the January 23, 2006 deficiency letter requesting additional information for the cost-of-service Reliability Must Run Agreement between ISO-New England, Inc. (ISO-NE) and Sempra Energy Trading Corporation, as agent for Applicant, filed November 30, 2005. In addition, ISO-NE tendered for filing its responses to the deficiency letter on February 22, 2006.

Comment Date: 5 p.m. Eastern Time on March 9, 2006.

7. Southwest Power Pool, Inc.

[Docket No. ER06-578-001]

Take notice that on February 15, 2006, Southwest Power Pool, Inc. (SPP) submitted for filing a revised unexecuted service agreement for Network Integration Transmission Service between SPP and Southwestern Public Service Company filed on January 1, 2006.

Comment Date: 5 p.m. Eastern Time on March 6, 2006.

8. International Transmission Company

[Docket No. ES06-26-000]

Take notice that on February 14, 2006, International Transmission Company (International Transmission) submitted an application pursuant to section 204 of the Federal Power Act seeking authorization to extend the maturity date on its existing revolving credit facility until March 10, 2010.

International Transmission also requests a waiver from the Commission's competitive bidding and negotiated placement requirements at 18 CFR 34.2.

Comment Date: 5 p.m. Eastern Time on March 10, 2006.

9. El Paso Electric Company

[Docket No. ES06-27-000]

Take notice that on February 17, 2006, El Paso Electric Company (El Paso Electric), submitted an application pursuant to Section 204 of the Federal Power Act seeking authorization to issue short-term indebtedness in an amount not to exceed $200 million outstanding at any one time.

Comment Date: 5 p.m. Eastern Time on March 15, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3042 Filed 3-2-06; 8:45 am]

BILLING CODE 6717-01-P